DEPARTMENT OF COMMERCE

Foreign-Trade Zones Board

[S-170-2023]

Approval of Subzone Expansion; Getinge Group Logistics Americas LLC; East Windsor, New Jersey

On September 1, 2023, the Executive Secretary of the Foreign-Trade Zones (FTZ) Board docketed an application submitted by the Port Authority of New York and New Jersey, grantee of FTZ 49, requesting to expand Subzone 49W subject to the existing activation limit of FTZ 49, on behalf of Getinge Group Logistics Americas LLC, in East Windsor, New Jersey.

The application was processed in accordance with the FTZ Act and Regulations, including notice in the Federal Register inviting public comment (88 FR 61499, September 7, 2023). The FTZ staff examiner reviewed the application and determined that it meets the criteria for approval. Pursuant to the authority delegated to the FTZ Board Executive Secretary (15 CFR 400.36(f)), the application to expand Subzone 49W was approved on November 6, 2023, subject to the FTZ Act and the Board's regulations, including section 400.13, and further subject to FTZ 49's 2,000-acre activation limit.

Dated: November 6, 2023.
Elizabeth Whiteman,
Executive Secretary.

[FR Doc. 2023-24824 Filed 11-8-23; 8:45 am]

BILLING CODE 3510-DS-P